DEPARTMENT OF THE INTERIOR

Bureau of Land Management

[UT-062-01-1220-AA]

Notice of Travel Restrictions

AGENCY: Bureau of Land Management (BLM), DOI.

ACTION: Notice of Travel Restrictions, Moab Field Office, Utah.

SUMMARY: This notice places restrictions on travel by off-road vehicles (ORV's) and mountain bikes on specific public land administered by the BLM Moab Field Office. These actions are necessary to halt ongoing impacts and prevent future degradation of resource values. They are being implemented on an interim basis to protect resource values and public safety, pending revision of the Resource Management Plan (RMP) for the area administered by the BLM Moab Field Office. This notice also affirms and describes previous travel restrictions that remain in effect.

DATES: This notice is effective January 22, 2001, and shall remain in effect until modified or the RMP is amended.

FOR FURTHER INFORMATION CONTACT: Russell von Koch, Resource Advisor, BLM Moab Field Office, 82 East Dogwood Avenue, Moab, Utah 84532 or telephone 435-259-2100.

SUPPLEMENTARY INFORMATION: In 1985, the Grand Resource Area RMP left the majority of the public land currently administered by the Moab Field Office as “Open to Off-road Vehicle Use.” Since publication of the plan, specific public land areas administered by the Moab Field Office have become destinations for travel by off-road vehicles users and mountain bikers. Cross-country travel off established roads and trails by motorized vehicles and mountain bikes is causing damage to scenic, cultural, soil, vegetation, and wildlife habitat resources in the high use areas identified below and, in some cases, is causing or threatens to cause considerable adverse effects to those resource values. Short-cutting, making parallel routes, detouring around challenging segments, and widening routes threaten the integrity of existing routes, reduce their value for commercial recreation and special events, and make them less attractive for recreation use. The proliferation of multiple routes off long established roads and trails also contributes to confusion among users as to their location on the ground and has led to more frequent search and rescue activity.

On several historic, interpretive, or recreational single-track trails, certain uses are incompatible with the protection of significant resource values or involve safety or management concerns. Specific actions are necessary to manage these routes.

New Travel Restrictions, Moab Travel Management Area (MTMA)

Travel by ORV's and mountain bikes, on public land in five areas administered by the Moab Field Office, is now limited to existing roads and trails, except where more restrictive designations apply as described below under Existing Designations. Cross-country travel in these five areas, collectively referred to as the Moab Travel Management Area (MTMA), is prohibited, except for travel by mountain bike and two-wheel motorcycle on established slickrock riding areas (Bartlett Wash slickrock area, Tusher Canyon slickrock area, and slickrock areas along the Monitor and Merrimac and Lower Monitor and Merrimac trails), where such use does not further disturb vegetation or soils. To protect public safety and enhance user experience, BLM will provide maps of, and sign and mark recommended routes.

Under this action, approximately 245,642 acres currently designated as Open to ORV travel will be managed as ORV and mountain bike Travel Limited to Existing Roads and Trails. This change involves 25 percent of the land currently Open to ORV use and 13 percent of the total public land within the Moab Field Office. The intent of these year-round ORV designation changes is to protect natural resource and scenic values from the adverse effects of cross-country travel, maintain the integrity of established travel routes, and provide for public safety until the RMP is revised.

MTMA 1 (approximately 15,031 acres, in 3 parcels) is northwest of Moab along the boundary of Arches National Park. It includes all public land south of Township 22 S, west of Arches National Park, east of U.S. Highway 191 and north of the private land at the mouth of Moab Canyon.

MTMA 2 (approximately 189,939 acres) is northwest of Moab. It includes all public land west of U.S. Highway 191; south of the Canyonlands Field Airport, the Mancos shale land already limited to existing roads and trails, the Levi Well Road, and the Tenmile Point Road; east of the public land already limited to existing roads and trails along the east side of the Green River rims, and north of the northern boundary of Canyonlands National Park, the block of State and Private land around Dead Horse Point State Park and Potash, and the land north of Utah Highway 279. Land inside this boundary (in South Sevenmile Canyon and the Colorado Riverway), where ORV travel is already limited to designated roads and trails remains so designated.

MTMA 3 (approximately 28,266 acres) is west and south of Moab. It includes all public land west of U.S. Highway 191; north of the southern rim of Kane Creek Canyon and the land on Hatch Point already designated as limited to existing roads; and east and south of the Colorado River. Land in the Behind the Rocks Wilderness Study Area (WSA), which is closed to ORV use (subject to valid existing rights), and within the Colorado Riverway, where ORV use is limited to designated roads and trails, remains so designated.

MTMA 4 (approximately 6,558 acres) is northeast of Moab along the Entrada Bluffs Road. It includes an area bounded on the south by a one-half mile wide corridor along County Road 105 (Entrada Bluffs Road) and on the north by land already limited to existing roads and trails along the Dolores River.

MTMA 5 (approximately 5,848 acres) is northeast of Moab along the Utah/Colorado border. The area, which includes May Flat, is approximately 8 miles long and 2 miles wide. It is bordered by areas where ORV travel is currently limited to existing roads and trails on the north and west; private land to the southwest; the Colorado River on the south, and the Colorado-Utah state line near Rabbit Valley on the east.

Interpretive Trails Closed to Motorized and Mountain Bike Travel

The Sauropod Dinosaur Trackway Interpretive Trail, and the Mill Canyon Dinosaur Interpretive Trail are closed to motorized travel and mountain bike use to prevent resource damage to paleontological resources, scenic values, vegetation, and soils.

Single-Track Trails Closed to Motorized Travel

The following single-track trails are closed to motorized travel to prevent further damage to scenic values, soils, and vegetation along these narrow trails and to provide for public safety: (1) The entire Portal Trail from Jaycee Park to the top of Poison Spider Mesa; (2) the Hunter Canyon Rim Trail from the drill hole at the end of the Hunter Canyon Rim ORV route to the Kane Creek Road; (3) the Hidden Valley Trail from its trailhead in Spanish Valley to the boundary of the Behind the Rocks WSA.

Implementation

Maps showing all current Moab Field Office ORV designations are available for public review at the Moab Field Office. The designations are also shown on a map on the Moab Field Office's website at http://www.blm.gov/utah/moab. BLM will provide public land users with information about travel restrictions using brochures, signs, and bulletin boards with maps at major entry areas. It will protect key areas from further cross-country travel using signs and simple barriers as appropriate. Enforcement actions will be taken as necessary. BLM will provide maps of, and mark and sign recommended routes.

Future Planning

These travel restrictions are an interim measure to protect resource values and route integrity by prohibiting cross-country use and use on the specific single-track trails identified above until the RMP is revised. Revision of the RMP will address long term travel management across a range of management options.

Existing Designations

Except for those formerly Open areas where travel is now Limited to Existing Roads and Trails, this notice does not change the ORV designations made through the RMP or previously published Federal Register travel notices covering the public land administered by the Moab Field Office. These designations are affirmed and described below. The travel designation map on the Moab Field Office website shows all applicable travel designations.

Closed Areas

The Behind the Rocks Wilderness Study Area, Negro Bill Canyon, and the east side of Westwater Canyon are closed to ORV use subject to valid existing rights. The Windwhistle and Hatch Point Campgrounds, the Canyonlands, Needles, and Anticline Overlooks, and the Onion Creek sensitive plant site are closed to ORV use off developed roads. The Black Ridge Wilderness Area is also closed to ORV and mechanized travel by act of Congress through the Colorado Canyons National Conservation Area and Black Ridge Canyons Wilderness Act of 2000.

Limited to Designated Roads and Trails Areas

ORV Travel in the Mill Creek and East Mill Creek areas and the Colorado Riverway is limited to designated routes. ORV and mountain bike travel in the Sand Flats Recreation Area, the Kens Lake area, the Sevenmile Canyon area, and the NW ¼ of Section 24 and the SW ¼ of Section 13, T. 25 S., R. 20 E. S.L.M. in the Little Canyon area is limited to designated routes.

Limited to Existing Roads and Trails Areas

The 1985 RMP designated the Mancos shale areas in the Cisco and Green River desert areas; the Colorado, Green, and Dolores river corridors; portions of the Canyon Rims Recreation Area, and the area between Dead Horse Point State Park and the Colorado River as limited to existing roads and trails.

Exceptions

The travel restrictions in this notice do not apply to wheelchairs, water craft, military, fire, emergency, or law enforcement vehicles used for emergency purposes, vehicles expressly permitted by the BLM, or BLM vehicles required for official use, and are subject to valid existing rights.

Authority: Pub. L. 94-579, E. O. 11644, E. O. 11989, 43 CFR 8341.2, 43 CFR 8364.1

Dated: January 12, 2001.
Sally Wisely,
State Director.

[FR Doc. 01-1595 Filed 1-19-01; 8:45 am]

BILLING CODE 4310-DQ-U